DEPARTMENT OF ENERGY

Federal Energy Regulatory Commission

[Docket No. RP02-47-000]

El Paso Natural Gas Company; Notice of Proposed Changes in FERC Gas Tariff

November 15, 2001.

Take notice that on November 13, 2001, El Paso Natural Gas Company (El Paso) tendered for filing as part of its FERC Gas Tariff, Second Revised Volume No. 1-A, the following tariff sheets, with an effective date of December 14, 2001:

Second Revised Sheet No. 287

Original Sheet No. 287A

Second Revised Sheet No. 288

First Revised Sheet No. 353

Original Sheet No. 353A

First Revised Sheet No. 354

El Paso states that tariff sheets are being filed to specify the procedures for changing primary delivery point rights and to provide flexibility to shippers desiring to change their primary delivery points.

El Paso states that copies of the filing upon all shippers on El Paso's system, and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29078 Filed 11-20-01; 8:45 am]

BILLING CODE 6717-01-P